DEPARTMENT OF TRANSPORTATION

Federal Highway Administration

Notice of Final Federal Agency Actions on Proposed Highway in New Mexico

AGENCY: Federal Highway Administration (FHWA), DOT.

ACTION: Notice of Limitation on Claims for Judicial Review of Actions by FHWA.

SUMMARY: This notice announces actions taken by the FHWA that are final. The actions relate to a proposed highway project, Sunport Boulevard Extension and Woodward Road from Interstate 25 extending west to NM 303 (2nd Street SW), in the County of Bernalillo, State of New Mexico. Those actions grant licenses, permits, and approvals for the project.

DATES: By this notice, the FHWA is advising the public of final agency actions subject to 23 U.S.C. 139(l)(1). A claim seeking judicial review of the Federal agency actions on the highway project will be barred unless the claim is filed on or before July 11, 2019. If the Federal law that authorizes judicial review of a claim provides a time period of less than 150 days for filing such claim, then that shorter time period still applies.

FOR FURTHER INFORMATION CONTACT: For FHWA, Gregory L. Heitmann, Environmental/Realty Specialist, FHWA New Mexico Division, 4001 Office Court Drive, Suite 801, Santa Fe, NM 87507, 8:30 a.m. to 4:45 p.m., Phone Number (505) 820-2027, Email greg.heitmann@dot.gov. For New Mexico Department of Transportation (NMDOT), R. Blake Roxlau, Environmental Bureau Manager, Environmental Bureau, 1120 Cerillos Road, Room 205, Santa Fe, NM 87504-1149, Office hours 8:00 a.m. to 5:00 p.m., Phone (505) 490-2575, Email Blake.Roxlau@state.nm.us.

SUPPLEMENTARY INFORMATION: Notice is hereby given that FHWA has taken final agency action(s) subject to 23 U.S.C. 139(l)(1) by issuing licenses, permits, and approvals for the following highway project in the State of New Mexico: The Sunport Boulevard Extension Project is a project that connects the Sunport Interstate 25 Interchange to NM 47(Broadway Boulevard) to the west of the interchange via a new highway facility that includes a bridge. The project also includes improvements to the Broadway Boulevard/Sunport Boulevard/Woodward Road Intersection, as well as improvements to the existing Woodward Road facility extending west to NM 303 (2nd Street SW). The project provides an important regional transportation link in completing the western leg of the existing Sunport Interchange, which serves the Albuquerque International Airport. The project length is approximately 1.05 miles. FHWA and the NMDOT recognize the project with the following Control Numbers: A300160 and A300161. The actions by the agencies, and the laws under which such actions were taken, are described in the Environmental Assessment (EA) for the project, approved on May 8, 2018, in the Finding of No Significant Impact (FONSI), issued on January 31, 2019, and in other documents in the project records. The EA/FONSI, and other project records are available by contacting FHWA or the NMDOT at the addresses provided above. The EA and can be viewed and downloaded from the project website at https://www.bernco.gov/public-works/current-past-projects.aspx?1fc7eb62479a4a568e871b92638de153blogPostId=52e84a84b12f4e9c92a967416e68556f#/BlogContent or obtained from any contact listed above.

This notice applies to all Federal agency decisions that are final as of the issuance date of this notice and all laws under which such actions were taken, including but not limited to:

1. General: National Environmental Policy Act (NEPA) (42 U.S.C. 4321-4351); Federal-Aid Highway Act (23 U.S.C. 109 and 23 U.S.C. 128).

2. Air: Clean Air Act (42 U.S.C. 7401-7671q).

3. Land: Section 4(f) Requirements (49 U.S.C. 303; 23 U.S.C. 138); Landscaping and Scenic Enhancement (Wildflowers) (23 U.S.C. 319).

4. Wildlife: Endangered Species Act (16 U.S.C. 1531-1544 and Section 1536); Marine Mammal Protection Act (16 U.S.C. 1361-1423h); Fish and Wildlife Coordination Act (16 U.S.C. 661-667d); Migratory Bird Treaty Act (16 U.S.C. 703-712).

5. Historic and Cultural Resources: Section 106 of the National Historic Preservation Act of 1966, as amended (54 U.S.C. 306108); Archeological Resources Protection Act of 1977 (16 U.S.C. 470aa-470mm); Archeological and Historic Preservation Act (16 U.S.C. 469-469c); Native American Grave Protection and Repatriation Act (NAGPRA) (25 U.S.C. 3001-3013).

6. Social and Economic: Civil Rights Act of 1964 (42 U.S.C. 200(d)-2000(d)(1)); American Indian Religious Freedom Act (42 U.S.C. 1996); Farmland Protection Policy Act (FPPA) (7 U.S.C. 4201-4209).

7. Wetlands and Water Resources: Clean Water Act (Section 404, Section 401, Section 319) (33 U.S.C. 1251-1387); Land and Water Conservation Fund (LWCF) (16 U.S.C. 4601-4604); Safe Drinking Water Act (SDWA) (42 U.S.C. 300f-300j-26)); Rivers and Harbors Act of 1899 (33 U.S.C. 401-406); Wild and Scenic Rivers Act (16 U.S.C. 1271-1287); Emergency Wetlands Resources Act, (16 U.S.C. 3901, 3921); Wetlands Mitigation (23 U.S.C. 119(g) and 133(b)(14)); Flood Disaster Protection Act, 42 U.S.C. 4012a, 4106).

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species; E.O. 11991 Environmental Impact Statements; E.O. 13766 Expediting Environmental Reviews and Approvals for High Priority Infrastructure Projects; E.O. 13807 Establishing Discipline and Accountability in the Environmental Review and Permitting Process for Infrastructure Projects.

(Catalog of Federal Domestic Assistance Program Number 20.205, Highway Planning and Construction. The regulations implementing Executive Order 12372 regarding intergovernmental consultation on Federal programs and activities apply to this program.)

Authority: 23 U.S.C. 139(l)(1)

J. Don Martinez,
Division Administrator, Santa Fe, New Mexico.

[FR Doc. 2019-01631 Filed 2-8-19; 8:45 am]

BILLING CODE 4910-RY-P